DEPARTMENT OF TRANSPORTATION

Federal Aviation Administration

Public Notice for Waiver of Aeronautical Land-Use Assurance

AGENCY: Federal Aviation Administration (FAA), DOT.

ACTION: Notice of intent of waiver with respect to land; Oceana County Airport; Shelby, Michigan.

SUMMARY: The Federal Aviation Administration (FAA) is considering a proposal to change a portion of airport land from aeronautical use to non-aeronautical use and to authorize the sale of airport property located at Oceana County Airport, Shelby, Michigan. The proposal consists of 1.82 acres of airport property for which the current use and present condition is the Oceana County Animal Shelter.

DATES: Comments must be received on or before May 16, 2013.

ADDRESSES: Documents are available for review by appointment at the FAA Detroit Airports District Office, 11677 South Wayne Road, Suite 107, Romulus, Michigan 48174 or at Oceana County Airport, Shelby, Michigan. Written comments on the Sponsor's request must be delivered or mailed to: Diane Morse, Program Manager, Detroit Airports District Office, Federal Aviation Administration, 11677 South Wayne Road, Suite 107, Romulus, Michigan 48174. Telephone Number: (734) 229-2929/FAX Number: (734) 229-2950.

FOR FURTHER INFORMATION CONTACT: Diane Morse, Program Manager, Detroit Airports District Office, Federal Aviation Administration, 11677 South Wayne Road, Suite 107, Romulus, Michigan 48174. Telephone Number: (734) 229-2929/FAX Number: (734) 229-2950.

SUPPLEMENTARY INFORMATION: In accordance with section 47107(h) of title 49, United States Code, this notice is required to be published in the Federal Register 30 days before modifying the land-use assurance that requires the property to be used for an aeronautical purpose.

The subject land was acquired by Oceana County through the Federal Aid to Airport Program dated July 11, 1946. The Oceana County Board of Commissioners intends to purchase the property, at fair market value, for continued use by the animal shelter. The aforementioned land is not needed for aeronautical use, as shown on the Airport Layout Plan. There are no impacts to the airport by allowing the airport to dispose of the property. This notice announces that the FAA is considering the release of the subject airport property at Oceana County Airport, from all federal land covenants. Approval does not constitute a commitment by the FAA to financially assist in the disposal of the subject airport property nor a determination that all measures covered by the program are eligible for grant-in-aid funding from the FAA. The disposition of proceeds from the sale of the airport property will be in accordance with FAA's Policy and Procedures Concerning the Use of Airport Revenue, published in the Federal Register on February 16, 1999 (64 FR 7696).

Following is a legal description of the property situated in the State of Michigan, County of Oceana, The North 297' of West 267' of Northeast quarter of Northwest quarter Section 3, Township 14 North, Range 17 West, Shelby Township, Oceana County, Michigan.

Legal Description of Property

Parcel is more particularly described as follows:

Part of the Northeast quarter of Northwest quarter of Section 3, Township 14 North, Range 17 West, Shelby Township, Oceana County, Michigan, described as: Commencing at the North quarter corner of Section 3; thence North 87°17′00″ West along the north section line 1051.69 feet to the point of beginning; thence South 01°59′25″ West parallel with and 267.00 feet easterly of the west 1/16 line for a distance of 297.02 feet; thence North 01°59′25″ East along the west 1/16 line 297.02 feet; thence South 87°17′00″ East along the north section line 267.02 feet to the point of beginning. Contains 1.82 acres more or less. Together with and subject to covenants, easements, and restrictions of record.

Issued in Detroit, Michigan, on March 7, 2013.
John L. Mayfield, Jr.,
Manager, Detroit Airports District Office, FAA, Great Lakes Region.

[FR Doc. 2013-08828 Filed 4-15-13; 8:45 am]

BILLING CODE 4910-13-P